DEPARTMENT OF EDUCATION

Notice Inviting Applications for Public and Private Nonprofit Institutions of Higher Education Under the Higher Education Emergency Relief Fund (HEERF), Section 2003 of the American Rescue Plan Act, 2021 (ARP)

AGENCY: Office of Postsecondary Education, Department of Education.

ACTION: Notice.

SUMMARY: The Secretary is announcing the availability of new ARP (a)(1) HEERF grant funding as authorized under section 2003(1) of the ARP and inviting applications under Assistance Listing Numbers (ALN) 84.425E and 84.425F from eligible public and private nonprofit institutions that did not previously receive funding under section 314(a)(1) of the Coronavirus Response and Relief Supplemental Appropriations Act, 2021 (CRRSAA). This notice relates to the approved information collections under OMB control numbers 1801-0005 and 1840-0842.

DATES:

Applications Available: May 13, 2021.

Deadline for Transmittal of Applications: Applications will be accepted on a rolling basis until August 11, 2021.

ADDRESSES: For the addresses for obtaining and submitting an application, please refer to our Common Instructions for Applicants to Department of Education Discretionary Grant Programs, published in the Federal Register on February 13, 2019 (84 FR 3768) and available at www.federalregister.gov/d/2019-02206.

FOR FURTHER INFORMATION CONTACT: Karen Epps, U.S. Department of Education, 400 Maryland Avenue SW, Room 250-64, Washington, DC 20202. Telephone: The Department of Education HEERF Call Center at (202) 377-3711. Email: HEERF@ed.gov. Please also visit our HEERF website at: www2.ed.gov/about/offices/list/ope/arp.html.

If you use a telecommunications device for the deaf (TDD) or a text telephone (TTY), call the Federal Relay Service (FRS), toll free, at 1-800-877-8339.

SUPPLEMENTARY INFORMATION:

Full Text of Announcement

I. Funding Opportunity Description

On March 11, 2021, the President signed into law the ARP (Pub. L. 117-2). This new law makes available approximately $39.6 billion for institutions of higher education under HEERF, with funding appropriated through existing programs previously authorized under the CRRSAA (Pub. L. 116-260).

With this notice, the Secretary is announcing the availability of HEERF grant funds under the ARP (a)(1) programs under ALNs 84.425E and 84.425F. These programs, with some changes, are a continuation of the CRRSAA section 314(a)(1) program, which the Department implemented as two funding streams: (1) The Student Aid Portion (ALN 84.425E) for financial grants to students, and (2) the Institutional Portion (ALN 84.425F) for institutional uses of funds related to the coronavirus.

Eligible institutions are institutions of higher education, as defined in sections 101 and 102(c) of the Higher Education Act of 1965, as amended (HEA), 20 U.S.C. 1001, 1002(c). Allocations for these programs will be calculated according to the formulas in ARP section 2003(1) and section 314(a)(1) of the CRRSAA. Under ARP section 2003, grant awards under these programs may be used to (1) defray expenses associated with coronavirus (including lost revenue, reimbursement for expenses already incurred, technology costs associated with a transition to distance education, faculty and staff trainings, and payroll) or (2) provide financial aid grants to students (including students exclusively enrolled in distance education), which may be used for any component of the student's cost of attendance or for emergency costs that arise due to coronavirus, such as tuition, food, housing, health care (including mental health care), or child care. In making financial aid grants to students, an institution of higher education must prioritize grants to students with exceptional need, such as students who receive Pell Grants. The amount each institution must use for financial aid grants to students is determined by calculating the sum of 50 percent of the amount each institution receives under the formula factors in CRRSAA section 314(a)(1)(A)-(D); and 100 percent of the amount received under the formula factors in CRRSAA section 314(a)(1)(E)-(F). This amount is identified for each institution in the allocation table.

Additionally, under ARP section 2003(5), institutions must use a portion of their Institutional Portion funds under ALN 84.425F, if the institutions have not directed all of these funds to student grants, to (1) implement evidence-based practices to monitor and suppress coronavirus in accordance with the public health guidelines and (2) conduct direct outreach to financial aid applicants about the opportunity to receive a financial aid adjustment due to recent unemployment status or other changes in financial circumstances as described in section 479A of the HEA (20 U.S.C. 1087tt).

The Department will automatically award supplemental funds to eligible institutions that previously received a section 314(a)(1) Student Aid Portion or Institutional Portion award under CRRSAA. No action is required by eligible institutions to receive these supplemental awards. The Project Director identified on the most current Grant Award Notification (GAN) will automatically receive an email indicating a supplemental award has been made to their institution. Please note that drawing down any amount of these supplemented funds constitutes an institution's acceptance of the new terms and conditions under the ARP and a new Supplemental Agreement, which are included as appendices to this notice for reference.

Institutions that did not receive a CRRSAA section 314(a)(1) award but are on the Department's published ARP (a)(1) allocation table may apply for and receive ARP (a)(1) Student Aid Portion (ALN 84.425E) and Institutional Portion (ALN 84.425F) grant awards. An institution must apply for funds within 90 days of the publication of this notice. Institutions that do not apply within the 90 timeframe will become ineligible and unable to receive the grant funds.

The Department recognizes that some institutions may not want additional funds under the ARP. Institutions wanting to decline their award or a specified amount should submit the Voluntary Decline of HEERF Grant Funds form to HEERFRefund@ed.gov, available at www2.ed.gov/about/offices/list/ope/arp.html, to redirect these funds to institutions with greater needs. If the Department has already made an ARP supplemental award to the institution, the Department will deobligate those supplemented funds in G5 by the amount specified in the form. Any returned funds will be redistributed to institutions that have not declined funds by applying the appropriate distribution formula and making additional supplemental awards to those institutions. Institutions have 90 days from the publication of this notice to indicate if they would like to decline or return unneeded ARP funds.

Program Authority: Section 2003 of the ARP and section 314 of the CRRSAA.

Applicable Regulations: (a) The Education Department General Administrative Regulations in 34 CFR parts 75, 77, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

II. Award Information

Type of Award: Formula grants.

Estimated Available Funds: $39,600,000,000.

Grant Period: Institutions must expend funds received under this program within 12 months of obligation of the funds by the Department.

III. Eligibility Information

1. Eligible Applicants: Public and Private Nonprofit IHEs, as defined in section 101 and section 102(c) of the HEA.

2. Cost Sharing or Matching: This program does not require cost sharing or matching.

3. Subgrantees: Subgrantees are not allowed under this program.

IV. Application and Submission Information

1. Application Submission Instructions: Only those institutions that did not receive a CRRSAA section 314(a)(1) award but are on the Department's published ARP (a)(1) allocation table must submit an application for ARP funds in accordance with the following instructions.

Institutions that are interested in receiving both the Student Aid Portion and the Institutional Portion of ARP (a)(1) funds must submit two applications: One under ALN 84.425E and a second one under ALN 84.425F. Institutions may apply for the Student Aid Portion only and decline the Institutional Portion. However, an institution may not receive an Institutional Portion grant if the institution does not also apply for the Student Aid Portion grant.

Applicants are required to submit their applications using Grants.gov. Each application for a Student Aid Portion or Institutional Portion grant must include—

• A complete SF-424;

• Supplemental Information for the SF-424; and

• A Certification and Agreement (C&A) for the Student Aid Portion or the Institutional Portion, as appropriate.

Note: Institutions must submit the correct C&A for the funds requested. Each C&A must be completed using the OPE ID and DUNS number of the institution for which you are requesting funds. An institution will receive the amount specified for the institution in the Department's published ARP (a)(1) allocation table.

2. Instructions to Decline an Award: To voluntarily decline some or all of the institution's award, submit the Voluntary Decline of HEERF Grant Funds form, which you can find at www2.ed.gov/about/offices/list/ope/arp.html, to HEERFRefund@ed.gov.

3. Intergovernmental Review: This program is subject to Executive Order 12372 and the regulations in 34 CFR part 79. However, under 34 CFR 79.8(a), we waive intergovernmental review in order to make timely awards.

4. Funding Restrictions: We specify funding restrictions in the C&A or Supplemental Agreement.

5. Data Universal Numbering System Number, Taxpayer Identification Number, and System for Award Management: In general, to do business with the Department, you must—

(a) Have a Data Universal Numbering System (DUNS) number and a Taxpayer Identification Number (TIN);

(b) Register both your DUNS number and TIN with the System for Award Management (SAM), the Government's primary registrant database;

(c) Provide your DUNS number and TIN on your SAM application; and

(d) Maintain an active SAM registration with current information while your application is under review by the Department and, if you are awarded a grant, during the project period.

You can obtain a DUNS number from Dun and Bradstreet at the following website: http://fedgov.dnb.com/webform. A DUNS number can be created within one to two business days.

If you are a corporate entity, agency, institution, or organization, you can obtain a TIN from the Internal Revenue Service. If you are an individual, you can obtain a TIN from the Internal Revenue Service or the Social Security Administration. If you need a new TIN, please allow two to five weeks for your TIN to become active. The SAM registration process can take approximately seven business days, but may take upwards of several weeks, depending on the completeness and accuracy of the data you enter into the SAM database. Thus, if you think you might want to apply for Federal financial assistance under a program administered by the Department, please allow sufficient time to obtain and register your DUNS number and TIN. If you are currently registered with SAM, you may not need to make any changes. However, please make certain that the TIN associated with your DUNS number is correct. Also note that you will need to update your registration annually. This may take three or more business days. Information about SAM is available at www.SAM.gov. To further assist you with obtaining and registering your DUNS number and TIN in SAM or updating your existing SAM account, we have prepared a SAM.gov Tip Sheet, which you can find at: www2.ed.gov/fund/grant/apply/sam-faqs.html.

V. Award Administration Information

1. Award Notices: If you receive a grant award under this program, we will send you a Grant Award Notification (GAN), or we may send you an email containing a link to access an electronic version of your GAN.

2. Reporting: Institutions must comply with all HEERF reporting requirements. Reporting requirements are specified in the C&A or Supplemental Agreement.

VI. Other Information

Accessible Format: On request to the program contact person listed under FOR FURTHER INFORMATION CONTACT, individuals with disabilities can obtain this document in an accessible format. The Department will provide the requestor with an accessible format that may include Rich Text Format (RTF) or text format (txt), a thumb drive, an MP3 file, Braille, large print, audiotape, or compact disc, or another accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Michelle Asha Cooper,
Acting Assistant Secretary for Postsecondary Education.

Attachment 1: Example Supplemental Agreement for Supplemental Grant Funds for Students

American Rescue Plan Act of 2021

Supplemental Agreement (ALN 84.425E) ((a)(1) Student Aid Portion)

Supplemental Grant Funds for Students

The terms, conditions, and requirements governing your institution's (Recipient's) use of these supplemental grant funds awarded pursuant to section 2003 of the American Rescue Plan Act of 2021 (ARP) (Pub. L. 117-2) (supplemental award or grant) by the U.S. Department of Education (Department) are governed by section 2003 of the ARP and section 314 of the Coronavirus Response and Relief Supplemental Appropriations Act, 2021 (CRRSAA) (Pub. L. 116-260) and the following terms and conditions of this Supplemental Agreement.

By Drawing Down These Grant Funds, You Agree To Be Bound by the Conditions Set Forth on Behalf of the Institution You Represent, and You Warrant That You Have the Authority To Bind the Institution to the Following Conditions

1. Section 2003(7) of the ARP requires Recipient, an institution of higher education as defined in section 101 or 102(c) of the Higher Education Act of 1965, as amended (HEA), 20 U.S.C. 1001 or 1002(c), to provide emergency financial aid grants to students in an amount equivalent to the sum of two amounts: 50 percent of the portion of its allocation that is based on formula factors from CRRSAA section 314(a)(1)(A)-(D) and 100 percent of the portion of its allocation that is based on formula factors from CRRSAA section 314(a)(1)(E)-(F). The amount of funds made available by this supplemental award under Assistance Listing Number (ALN) 84.425E represents the minimum amount that Recipient must use for making emergency financial aid grants to students.

2. Under section 2003(7) of the ARP and section 314(c)(3) of the CRRSAA, Recipient must make emergency financial aid grants to students (which may include students exclusively enrolled in distance education), which may be used for any component of the student's cost of attendance or for emergency costs that arise due to coronavirus, such as tuition, food, housing, health care (including mental health care), or child care.

3. Recipient acknowledges that it retains discretion to determine the amount and availability of each individual emergency financial aid grant consistent with all applicable laws, including non-discrimination laws. Recipient acknowledges it must not distribute emergency financial aid grants in a manner that discriminates against individuals on the basis of race, color, national origin, disability, or sex. See, e.g., 42 U.S.C. 2000(c)-(d) (Title VI), 29 U.S.C. 701 et seq., 20 U.S.C. 1681 (Title IX).

4. Recipient further acknowledges that under CRRSAA section 314(c)(3), it must prioritize grants to students with exceptional need, such as students who receive Pell Grants. However, students do not need to be Pell recipients or students who are eligible for Pell Grants in order to receive an emergency financial aid grant.

5. Recipient acknowledges that it may not condition the receipt of an emergency financial aid grant on continued or future enrollment with the Recipient. Recipient also acknowledges that it may not require a student to consent to the application of the emergency financial aid grant to the student's outstanding account balance with Recipient as a condition of receipt of or eligibility for an emergency financial aid grant. Recipient also acknowledges that adding preconditions to receiving a financial aid grant that thwart this requirement may be subjected to oversight and corrective action.

6. In consideration for this award, Recipient agrees that Recipient holds these grant funds in trust for students and acts in the nature of a fiduciary for students.

7. Recipient acknowledges that the Secretary recommends (a) the maximum Federal Pell Grant for the applicable award year as an appropriate maximum amount for a student's emergency financial aid grant in most cases, and (b) that the Recipient should consider each student's particular socioeconomic circumstances in the administration of these grants.

8. The Secretary strongly encourages Recipient's financial aid administrator to exercise the use of professional judgment available under HEA section 479A, 20 U.S.C. 1087tt, to make adjustments on a case-by-case basis to exclude individual emergency financial aid grants from the calculation of a student's expected family contribution. The Secretary has determined that these individual emergency financial aid grants do not constitute Federal financial aid under Title IV of the HEA.

9. Recipient acknowledges that it may voluntarily decline all or a portion of its ARP (a)(1) student funds. The recipient may indicate this by submitting the Voluntary Decline of HEERF form (OMB Control Number 1840-0856) to the Department by August 11, 2021. Recipient further acknowledges if it submits this form, it will be ineligible for the future redistribution of ARP HEERF grant funds to other institutions with greater needs due to the coronavirus.

Grant Administration

10. Recipient acknowledges that consistent with 2 CFR 200.305, it must minimize the time between drawing down funds from G5 and paying incurred obligations (liquidation). Recipient further acknowledges that if it draws down funds and does not pay the incurred obligations (liquidates) within 15 calendar days it may be subject to heightened scrutiny by the Department, Recipient's auditors, and/or the Department's Office of the Inspector General (OIG). Recipient further acknowledges that returning funds pursuant to mistakes in drawing down excessive grant funds in advance of need may also be subject to heightened scrutiny by the Department, Recipient's auditors, and/or the Department's OIG. Finally, Recipient acknowledges that it must maintain drawn down grant funds in an interest-bearing account, and any interest earned on all Federal grant funds above $500 (all Federal grants together) during an institution's fiscal year must be returned (remitted) to the Federal government via a process described here: https://www2.ed.gov/documents/funding-101/g5-returning-interest.pdf.

11. Recipient may not charge any indirect or administrative costs to funds made available under this supplemental award because the allocation in this grant award represents the minimum amount of funds that must be distributed to students.

12. Recipient acknowledges that any obligation under this grant (pre-award costs pursuant to 2 CFR 200.458) must have been incurred on or after March 13, 2020, the date of the declaration of a National Emergency Concerning the Novel Coronavirus Disease (COVID-19) Outbreak (85 FR 15337).

13. Recipient must promptly and to the greatest extent practicable distribute all grant funds from this award in the form of emergency financial aid grants to students within the one-year period of performance (2 CFR 200.77) specified in Box 6 of this Grant Award Notification (GAN).

14. Recipient must, to the greatest extent practicable, continue to pay its employees and contractors during the period of any disruptions or closures related to coronavirus pursuant to section 315 of the CRRSAA.

15. Recipient acknowledges that its failure to draw down any amount ($1 or more) of its supplemental grant funds within 90 days of the date of this supplemental award will constitute nonacceptance of the terms, conditions, and requirements of this Supplemental Agreement and of these supplemental grant funds. In such event, the Department, in its sole discretion, may choose to deobligate these supplemental grant funds or take other appropriate administrative action, up to and including terminating the grant award pursuant to 2 CFR 200.340.

Reporting and Accountability

16. Recipient must promptly and timely provide a detailed accounting of the use and expenditure of the funds provided by this supplemental award in such manner and with such frequency as the Secretary may require.

17. Recipient must comply with all requirements of the Single Audit Act Amendments of 1996, 31 U.S.C. 7501, et seq. (Single Audit Act) and all applicable auditing standards. Considering that the HEERF grant program is a new program not previously audited or subjected to Department oversight, and the inherent risk that comes with a new program, the Department strongly suggests that the HEERF grant program be audited as a major program in the first fiscal year(s) that the institution received a HEERF grant.

18. Recipient acknowledges it is under a continuing affirmative duty to inform the Department if Recipient is to close or terminate operations as an institution or merge with another institution. In such cases, Recipient must promptly notify in writing the assigned education program officer contact in Box 3 of the GAN. Additionally, Recipient must promptly notify the assigned education program officer if the Recipient's Authorized Representative changes.

19. Recipient must cooperate with any examination of records with respect to the advanced funds by making records and authorized individuals available when requested, whether by (a) the Department and/or its OIG; or (b) any other Federal agency, commission, or department in the lawful exercise of its jurisdiction and authority. Recipient must retain all financial records, supporting documents, statistical records, and all other non-Federal entity records pertinent to a Federal award for a period of three years from the date of submission of the final expenditure report pursuant to 2 CFR 200.334.

20. Recipient acknowledges that failure to comply with this Supplemental Agreement, its terms and conditions, and/or all relevant provisions and requirements of the CRRSAA or ARP or any other applicable law may result in Recipient's liability under the False Claims Act, 31 U.S.C. 3729, et seq.; OMB Guidelines to Agencies on Governmentwide Debarment and Suspension (Nonprocurement) in 2 CFR part 180, as adopted and amended as regulations of the Department in 2 CFR part 3485; 18 U.S.C. 1001, as appropriate; and all of the laws and regulations referenced in the “Applicable Law” section of this Supplemental Agreement, below.

Applicable Law

21. Recipient must comply with all applicable assurances in OMB Standard Forms (SF) SF-424B and SF-424D (Assurances for Non-Construction and Assurances for Construction Programs), including the assurances relating to the legal authority to apply for assistance; access to records; conflict of interest; nondiscrimination; Hatch Act provisions; labor standards; Single Audit Act; and the general agreement to comply with all applicable Federal laws, executive orders, and regulations.

22. Recipient certifies that with respect to the certification regarding lobbying in Department Form 80-0013, no Federal appropriated funds have been paid or will be paid to any person for influencing or attempting to influence an officer or employee of any agency, a Member of Congress, an officer or employee of Congress, or an employee of a Member of Congress in connection with the making or supplementing of Federal grants under this program; Recipient must complete and submit Standard Form-LLL, “Disclosure Form to Report Lobbying,” when required (34 CFR part 82, Appendix B).

23. Recipient must comply with the provisions of all applicable acts, regulations and assurances; the following provisions of Education Department General Administrative Regulations (EDGAR) 34 CFR parts 75, 77, 81, 82, 84, 86, 97, 98, and 99; the OMB Guidelines to Agencies on Governmentwide Debarment and Suspension (Nonprocurement) in 2 CFR part 180, as adopted and amended as regulations of the Department in 2 CFR part 3485; and the Uniform Administrative Requirements, Cost Principles, and Audit Requirements for Federal Awards in 2 CFR part 200, as adopted and amended as regulations of the Department in 2 CFR part 3474.

Attachment 2: Example Supplemental Agreement for Supplemental Grant Funds for Institutions

American Rescue Plan Act of 2021

Supplemental Agreement (ALN 84.425F) ((a)(1) Institutional Portion)

Supplemental Grant Funds for Institutions

The terms, conditions, and requirements governing your institution's (Recipient's) use of these supplemental grant funds awarded pursuant to section 2003 of the American Rescue Plan Act of 2021 (ARP) (Pub. L. 117-2) (supplemental award or grant) by the U.S. Department of Education (Department) are governed by section 2003 of the ARP and section 314 of the Coronavirus Response and Relief Supplemental Appropriations Act, 2021 (CRRSAA) (Pub. L. 116-260) and the following terms and conditions of this Supplemental Agreement.

By Drawing Down These Grant Funds, You Agree To Be Bound by the Conditions Set Forth on Behalf of the Institution You Represent, and You Warrant That You Have the Authority To Bind the Institution to the Following Conditions

Use of Supplemental Grant Funds

1. Under section 314(c) of the CRRSAA, Recipient, an institution of higher education as defined in section 101 or 102(c) of the Higher Education Act of 1965, as amended (HEA), 20 U.S.C. 1001 or 1002(c), may use these supplemental grant funds for Recipient's Institutional Costs to defray expenses associated with coronavirus (including lost revenue, reimbursement for expenses already incurred, technology costs associated with a transition to distance education, faculty and staff trainings, and payroll) and make additional emergency financial grants to students, which may be used for any component of the student's cost of attendance or for emergency costs that arise due to coronavirus, such as tuition, food, housing, health care (including mental health care), or child care.

2. Under section 2003(5) of the ARP, Recipient must use a portion of their institutional funds received under this supplemental award to (a) implement evidence-based practices to monitor and suppress coronavirus in accordance with public health guidelines and (b) conduct direct outreach to financial aid applicants about the opportunity to receive a financial aid adjustment due to the recent unemployment of a family member or independent student, or other circumstances, described in section 479A of the HEA (20 U.S.C. 1087tt).

3. Recipient may, but is not required to, use funds designated for Recipient's Institutional Costs to provide additional emergency financial aid grants to students. If Recipient chooses to use these grant funds designated for Recipient's Institutional Costs to provide additional emergency financial aid grants to students, then those funds are subject to the requirements described in the ARP Supplemental Grant Funds for Students Agreement.

4. The Secretary urges Recipient to devote the maximum amount of funds possible to emergency financial aid grants to students, including some or all of the funds allocated for Recipient's Institutional Costs. The Secretary urges Recipient to take strong measures to ensure that emergency financial aid grants to students are made to the maximum extent possible.

5. Recipient acknowledges that no supplemental grant funds may be used to fund construction; acquisition of real property; contractors for the provision of pre-enrollment recruitment activities; marketing or recruitment; endowments; capital outlays associated with facilities related to athletics, sectarian instruction, or religious worship; senior administrator or executive salaries, benefits, bonuses, contracts, incentives; stock buybacks, shareholder dividends, capital distributions, and stock options; or any other cash or other benefit for a senior administrator or executive.

6. Recipient acknowledges that it may voluntarily decline all or a portion of its ARP (a)(1) institutional funds. The recipient may indicate this by submitting the Voluntary Decline of HEERF form (OMB Control Number 1840-0856) to the Department by August 11, 2021. Recipient further acknowledges if it submits this form, it will be ineligible for the future redistribution of ARP HEERF grant funds to other institutions with greater needs due to the coronavirus.

Grant Administration

7. Recipient acknowledges that consistent with 2 CFR 200.305, it must minimize the time between drawing down funds from G5 and paying incurred obligations (liquidation). Recipient further acknowledges that if it draws down funds and does not pay the incurred obligations (liquidates) within 3 calendar days it may be subject to heightened scrutiny by the Department, Recipient's auditors, and/or the Department's Office of the Inspector General (OIG). Recipient further acknowledges that returning funds pursuant to mistakes in drawing down excessive grant funds in advance of need may also be subject to heightened scrutiny by the Department, Recipient's auditors, and/or the Department's OIG. Finally, Recipient acknowledges that it must maintain drawn down grant funds in an interest-bearing account, and any interest earned on all Federal grant funds above $500 (all Federal grants together) during an institution's fiscal year must be returned (remitted) to the Federal government via a process described here: https://www2.ed.gov/documents/funding-101/g5-returning-interest.pdf.

8. Recipient may charge indirect costs to supplemental funds made available under this award consistent with its negotiated indirect cost rate agreement. If Recipient does not have a current negotiated indirect cost rate with its cognizant agency for indirect costs, it may appropriately charge the de minimis rate of ten percent of Modified Total Direct Costs (MTDC) under 2 CFR 200.414. Recipient may also charge reasonable direct administrative costs to the supplemental funds made available under this award.

9. Recipient acknowledges that any obligation under this grant (pre-award costs pursuant to 2 CFR 200.458) must have been incurred on or after March 13, 2020, the date of the declaration of a National Emergency Concerning the Novel Coronavirus Disease (COVID-19) Outbreak (85 FR 15337).

10. Recipient must promptly and to the greatest extent practicable expend all grant funds from this award within the one-year period of performance (2 CFR 200.77) specified in Box 6 of this Grant Award Notification (GAN).

11. Recipient must, to the greatest extent practicable, continue to pay its employees and contractors during the period of any disruptions or closures related to coronavirus pursuant to section 315 of the CRRSAA.

12. Recipient acknowledges that its failure to draw down any amount ($1 or more) of its supplemental grant funds within 90 days of the date of this supplemental award will constitute nonacceptance of the terms, conditions, and requirements of this Supplemental Agreement and of these supplemental grant funds. In such event, the Department, in its sole discretion, may choose to deobligate these supplemental grant funds or take other appropriate administrative action, up to and including terminating the grant award pursuant to 2 CFR 200.340.

Reporting and Accountability

13. Recipient must promptly and timely provide a detailed accounting of the use and expenditure of the funds provided by this supplemental award in such manner and with such frequency as the Secretary may require.

14. Recipient must comply with all requirements of the Single Audit Act Amendments of 1996, 31 U.S.C. 7501, et seq. (Single Audit Act) and all applicable auditing standards. Considering that the HEERF grant program is a new program not previously audited or subjected to Department oversight, and the inherent risk that comes with a new program, the Department strongly suggests that the HEERF grant program be audited as a major program in the first fiscal year(s) that the institution received a HEERF grant.

15. Recipient acknowledges it is under a continuing affirmative duty to inform the Department if Recipient is to close or terminate operations as an institution or merge with another institution. In such cases, Recipient must promptly notify in writing the assigned education program officer contact in Box 3. Additionally, Recipient must promptly notify the assigned education program officer if the Recipient's Authorized Representative changes.

16. Recipient must cooperate with any examination of records with respect to the advanced funds by making records and authorized individuals available when requested, whether by (a) the Department and/or its OIG; or (b) any other Federal agency, commission, or department in the lawful exercise of its jurisdiction and authority. Recipient must retain all financial records, supporting documents, statistical records, and all other non-Federal entity records pertinent to a Federal award for a period of three years from the date of submission of the final expenditure report pursuant to 2 CFR 200.334.

17. Recipient acknowledges that failure to comply with this Supplemental Agreement, its terms and conditions, and/or all relevant provisions and requirements of the CRRSAA or ARP or any other applicable law may result in Recipient's liability under the False Claims Act, 31 U.S.C. 3729, et seq.; OMB Guidelines to Agencies on Governmentwide Debarment and Suspension (Nonprocurement) in 2 CFR part 180, as adopted and amended as regulations of the Department in 2 CFR part 3485; 18 U.S.C. 1001, as appropriate; and all of the laws and regulations referenced in the “Applicable Law” section of this Supplemental Agreement, below.

Applicable Law

18. Recipient must comply with all applicable assurances in OMB Standard Forms (SF) SF-424B and SF-424D (Assurances for Non-Construction and Assurances for Construction Programs), including the assurances relating to the legal authority to apply for assistance; access to records; conflict of interest; nondiscrimination; Hatch Act provisions; labor standards; Single Audit Act; and the general agreement to comply with all applicable Federal laws, executive orders, and regulations.

19. Recipient certifies that with respect to the certification regarding lobbying in Department Form 80-0013, no Federal appropriated funds have been paid or will be paid to any person for influencing or attempting to influence an officer or employee of any agency, a Member of Congress, an officer or employee of Congress, or an employee of a Member of Congress in connection with the making or supplementing of Federal grants under this program; Recipient must complete and submit Standard Form-LLL, “Disclosure Form to Report Lobbying,” when required (34 CFR part 82, Appendix B).

20. Recipient must comply with the provisions of all applicable acts, regulations and assurances; the following provisions of Education Department General Administrative Regulations (EDGAR) 34 CFR parts 75, 77, 81, 82, 84, 86, 97, 98, and 99; the OMB Guidelines to Agencies on Governmentwide Debarment and Suspension (Nonprocurement) in 2 CFR part 180, as adopted and amended as regulations of the Department in 2 CFR part 3485; and the Uniform Administrative Requirements, Cost Principles, and Audit Requirements for Federal Awards in 2 CFR part 200, as adopted and amended as regulations of the Department in 2 CFR part 3474.

[FR Doc. 2021-10194 Filed 5-12-21; 8:45 am]

BILLING CODE 4000-01-P